DEPARTMENT OF DEFENSE

Office of the Secretary of Defense

Establishment of Department of Defense Federal Advisory Committees

AGENCY: Department of Defense.

ACTION: Notice; Establishment of Federal Advisory Committee.

SUMMARY: Under the provisions of section 1082 of Public Law 110-181, the Federal Advisory Committee Act of 1972, (5 U.S.C. Appendix, as amended), the Sunshine in the Government Act of 1976 (5 U.S.C. 552b, as amended), and 41 CFR 102-3.65, the Department of Defense gives notice that it is establishing the Advisory Panel on Department of Defense Capabilities for Support of Civil Authorities After Certain Incidents (hereafter referred to as the Panel).

The Panel is a non-discretionary federal advisory committee established under the authority of section 1082 of Public Law 110-181 and 41 CFR 102-3.50(a) to carry out an assessment of the capabilities of the Department of Defense to provide support to U.S. civil authorities in the event of a chemical, biological, radiological, nuclear, or high-yield explosive incident.

The Advisory Panel on Department of Defense Capabilities for Support of Civil Authorities After Certain Incidents is required by statute to submit a report within 12 months of its findings and recommendations. The report will be submitted to the Secretary of Defense and the Committees on Armed Services on the Senate and the House of Representatives.

The Advisory Panel on Department of Defense Capabilities for Support of Civil Authorities After Certain Incidents shall be composed of a chairperson and no more than nineteen additional members who have expertise in the legal, operational, and organizational aspects of the management of the consequences of a chemical, biological, radiological, nuclear, or high-yield explosive incident.

Panel members appointed by the Secretary of Defense, who are not full-time or permanent part-time employees of the federal government, shall be appointed as experts and consultants under the authority of 5 U.S.C. 3109 and, with the exception of travel and per diem for official travel, they shall serve without compensation. These experts and consultants shall serve as special government employees.

The Department of Defense intends to authorize the Advisory Panel on Department of Defense Capabilities for Support of Civil Authorities After Certain Incidents to establish and use subcommittees, and the Panel, to include any subcommittees, will operate under the provisions of the Federal Advisory Committee Act of 1972, the Sunshine in the Government Act of 1976 (5 U.S.C. 552b, as amended), and 41 CFR, Parts 102-3 through 102-3.185.

Such subcommittees or workgroups shall not work independently of the chartered Panel, and shall report all their recommendations and advice to the Panel for full deliberation and discussion. Subcommittees or workgroups have no authority to make decisions on behalf of the chartered Panel nor can they report directly to the Department of Defense or any federal officers or employees who are not Panel Members.

FOR FURTHER INFORMATION CONTACT: Jim Freeman, Deputy Committee Management Officer for the Department of Defense, 703-601-6128.

SUPPLEMENTARY INFORMATION: The Panel shall meet at the call of the Panel's Designated Federal Officer, in consultation with the Panel's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Advisory Panel on Department of Defense Capabilities for Support of Civil Authorities After Certain Incidents membership about the Panel's mission and functions. Written statements may be submitted at any time or in response to the stated agenda of planned meeting of the Advisory Panel on Department of Defense Capabilities for Support of Civil Authorities After Certain Incidents.

All written statements shall be submitted to the Designated Federal Officer for the Advisory Panel on Department of Defense Capabilities for Support of Civil Authorities After Certain Incidents, and this individual will ensure that the written statements are provided to the membership for their consideration. Contact information for the Advisory Panel on Department of Defense Capabilities for Support of Civil Authorities After Certain Incidents' Designated Federal Officer, once appointed, may be obtained from the GSA's FACA Database— https://www.fido.gov/facadatabase/public.asp.

The Designated Federal Officer, pursuant to 41 CFR 102-3.150, will announce planned meetings of the Advisory Panel on Department of Defense Capabilities for Support of Civil Authorities After Certain Incidents. The Designated Federal Officer, at that time, may provide additional guidance on the submission of written statements that are in response to the stated agenda for the planned meeting in question.

Dated: November 7, 2008.
Patricia L. Toppings,
OSD Federal Register Liaison Officer, Department of Defense.

[FR Doc. E8-27193 Filed 11-14-08; 8:45 am]

BILLING CODE 5001-06-P